DEPARTMENT OF ENERGY

[Solicitation Number DE-PS36-03GO93015]

Chemicals and Forest Products Industries of the Future

AGENCY: Golden Field Office, U.S. Department of Energy (DOE).

ACTION: Notice of issuance of solicitation for financial assistance applications.

SUMMARY: DOE is announcing its intention to seek Financial Assistance Applications for research and development (R&D) projects that will reduce energy consumption, enhance economic competitiveness, and reduce environmental impacts of the domestic chemical and forest products industries. DOE intends to provide financial support to assist in the development of such technologies under provisions of the Energy Policy Act of 1992 (EPAct).

DATES: Issuance of the Solicitation is planned for no later than August 21, 2003.

ADDRESSES: To obtain a copy of the Solicitation once it is issued, interested parties should access the DOE Golden Field Office Home Page at http://www.golden.doe.gov/businessopportunities.html, click on “Solicitations”, and then access the solicitation link. The Golden Home Page will provide direct access to the Solicitation and provide instructions on using the DOE Industry Interactive Procurement System (IIPS) Web site. The Solicitation can also be obtained directly through IIPS at http://e-center.doe.gov by browsing opportunities by Program Office for those solicitations issued by the Golden Field Office. DOE will not issue paper copies of the Solicitation.

FOR FURTHER INFORMATION CONTACT: Beth H. Dwyer, Contracting Officer, at beth.dwyer@go.doe.gov. Note, however, that responses to questions concerning the solicitation will ONLY be answered through the Q&A process in the IIPS system, and any Amendments to the Solicitation will be posted on the IIPS Web site ONLY.

SUPPLEMENTARY INFORMATION: The DOE Office of Infrastructure Technologies is soliciting Applications for R&D projects that will focus primarily on technology development in the areas of Catalytic Oxidation, Distillation, Wood/Composites, Fiber Recycling, and New Forest-Based Materials. Other promising technology areas demonstrating energy efficiency in the chemical and forest products industries may be considered in addition to the areas identified above.

Organizations applying under this solicitation are required to develop collaborative project teams involving industry, university and/or national laboratory participants. A minimum of two chemical or forest products organizations must be involved in each application. Awards under this Solicitation will be either Grants or Cooperative Agreements, with a Project Period of three to five years beginning in CY2004. A minimum Cost Share of 30% of Total Project Costs from non-federal sources for applied research projects, and 50% of Total Project Costs from non-federal sources for projects involving commercial demonstration technologies, for each year of the projects, is required in order to be considered for an award.

The possible number of initial awards to be made will depend on the availability of funds in the Fiscal Year 2004 congressional appropriations. Continuation of funding for the full project period will be contingent upon the availability of funds beyond FY 2004. The anticipated level of available DOE funding is specified in the Introduction to and Appendix B of the Solicitation. DOE reserves the right to make no awards under this Solicitation or to reduce the requested DOE funding commitment on any potential award through negotiated reductions in work scope.

Issued in Golden, Colorado, on August 21, 2003.
Jerry L. Zimmer,
Director, Office of Acquisition and Financial Assistance.

[FR Doc. 03-22749 Filed 9-5-03; 8:45 am]

BILLING CODE 6450-01-P